DEPARTMENT OF HOUSING AND URBAN DEVELOPMENT

[Docket No. FR-4497-N-08]

Public Housing Assessment System (PHAS): Notice of Extended Submission Period for PHAS Management Operations Certification and Audited Financial Statement for Certain PHAs

AGENCY: Office of the Assistant Secretary for Public and Indian Housing, HUD.

ACTION: Notice.

SUMMARY: This document announces that those public housing agencies (PHAs) with fiscal year ending September 30, 1999, and December 31, 1999, that did not fully meet the submission requirements for their PHAS Management Operations certification may submit or resubmit the certification during the time periods specified in this notice. Additionally, this document announces that PHAs with fiscal years ending September 30, 1999, have additional time to submit audited financial statements, as provided in this notice.

FOR FURTHER INFORMATION CONTACT: For further information contact the Real Estate Assessment Center (REAC), Attention: Wanda Funk, Department of Housing and Urban Development, 1280 Maryland Avenue, SW, Suite 800, Washington DC, 20024; telephone Technical Assistance Center at (888)-245-4860 (this is a toll free number). Persons with hearing or speech impairments may access that number via TTY by calling the Federal Information Relay Service at (800) 877-8339. Additional information is available from the REAC Internet Site, http://www.hud.gov/reac.

SUPPLEMENTARY INFORMATION:

I. Background

HUD's Public Housing Assessment System (PHAS) provides for the assessment of the physical condition, financial condition, management operations and resident services and satisfaction of public housing. HUD's regulations implementing the PHAS and codified in 24 CFR part 902 provide for this assessment to be made through physical inspection of public housing properties, survey of public housing residents, and a PHA's submission of audited financial statements and its certification to certain management data as required by the regulations. HUD's PHAS regulations were recently amended by a final rule published on January 11, 2000 (65 FR 1712) and a technical correction was published on June 6, 2000 (65 FR 36042).

II. This Notice

Management Assessment Data Resubmission Period for Certain PHAs

Due to errors or difficulties in submission of their management operations certifications, certain PHAs with fiscal years ending September 30, 1999, and December 31, 1999, did not fully meet the requirements under the PHAS Management Operations Indicator. As a result, HUD has advised these PHAs that they may submit or resubmit the management operations certification, as applicable, without penalty during the time periods outlined in Table 1. Additionally, HUD is conducting outreach to those PHAs to try and determine the exact nature of the problem that occurred and to assist these PHAs with the submission process.

Table 1.—Management Operations Certification Resubmission Period Dates
PHA fiscal year end date | Certification resubmission period
September 30, 1999 | August 1, 2000-August 31, 2000.
December 31, 1999 | August 15, 2000-September 14, 2000.

HUD's Office of Public and Indian Housing (PIH) and its Real Estate Assessment Center (REAC) already have contacted the affected PHAs about submission or resubmission of their management operations certifications. For these PHAs, this document also confirms that technical assistance is available to any PHA that may need assistance in resubmission of its certification.

PHAS Audited Financial Statement Submission Extension for Certain PHAs

Due also to submission with audited financial statements, the audited financial statements of PHAs with fiscal years ending September 30, 1999, were not all properly received and processed. Accordingly, this notice announces that PHAs with fiscal years ending September 30, 1999, may submit audited financial statements within 15 calendar days from the date of publication of this notice. PHAs will not receive a deduction in the advisory Financial Indicator score, if the audited financial statement data is transmitted to REAC within 15 calendar days from the date of publication of this notice. PIH and REAC also have contacted PHAs with fiscal years ending September 30, 1999, about the extended submission period for audited financial statements.

In both cases (the management certification resubmission, and the audited financial statement submission extension), the covered PHAs have already received notification of the information provided in this notice, and no formal request for resubmission or extension need to be submitted to HUD.

Dated: August 2, 2000.
Harold Lucas,
Assistant Secretary for Public and Indian Housing.

[FR Doc. 00-20081 Filed 8-8-00; 8:45 am]

BILLING CODE 4210-33-P